DEPARTMENT OF THE INTERIOR

Bureau of Reclamation

Colorado River Reservoir Operations: Development of Lower Basin Shortage Guidelines and Coordinated Management Strategies for Lake Powell and Lake Mead, Particularly Under Low Reservoir Conditions

AGENCY: Bureau of Reclamation, Interior.

ACTION: Notice of public availability of a Scoping Summary Report on the development of Lower Basin shortage guidelines and coordinated management strategies for the operation of Lake Powell and Lake Mead, particularly under low reservoir conditions.

SUMMARY: Pursuant to the National Environmental Policy Act (NEPA) of 1969, as amended, and the Council on Environmental Quality's Regulations for Implementing the Procedural Provisions of NEPA, the Department of the Interior (Department) has issued a Scoping Summary Report on the development of Lower Basin shortage guidelines and coordinated management strategies for the operation of Lake Powell and Lake Mead, particularly under low reservoir conditions. The Scoping Summary Report provides a summary of the issues raised during the scoping process and describes the Department's current assessment of the proposed scope of the environmental analysis to be included in the draft environmental impact statement (EIS). The Department anticipates that the Draft EIS will be published in December 2006. The report also includes a summary of the issues raised and comments received during the scoping process. Among other things, the report identifies how the Department anticipates addressing these issues.

Dates and Addresses: The Department will accept, review, and incorporate, as appropriate, any additional public comments on the information contained in the Scoping Summary Report as part of the development of the Draft EIS, which the Department anticipates will be published in December 2006. The Department would prefer that any such comments be received by May 1, 2006, in order to allow full consideration during the development of the Draft EIS. Send written comments to: Regional Director, Bureau of Reclamation, Lower Colorado Region, Attention: BCOO-1000, P.O. Box 61470, Boulder City, Nevada 89006-1470; faxogram at (702) 293-8156; or e-mail at strategies@lc.usbr.gov.

The Scoping Summary Report is available on the Bureau of Reclamation's Web site at http://www.usbr.gov/lc/region/g4000/strategies/index.html. If you would like a printed copy of the report, please contact Nan Yoder at telephone (702) 293-8500; facsimile (702) 293-8156; e-mail: strategies@lc.usbr.gov.

FOR FURTHER INFORMATION CONTACT: Terrance J. Fulp, Ph.D., at (702) 293-8500 or e-mail at strategies@lc.usbr.gov; and/or Randall Peterson at (801) 524-3633 or e-mail at strategies@lc.usbr.gov.

SUPPLEMENTARY INFORMATION: The Department is publishing the Scoping Summary Report as a voluntary effort to assist in public understanding of this important process. Based upon information presented in the report and all information submitted to the Department as part of this process, the Department is now undertaking preparation of a Draft EIS.

Proposed Federal Action

The Bureau of Reclamation, acting on behalf of the Secretary of the Interior (Secretary), proposes to take action to adopt specific Colorado River Lower Basin shortage guidelines and coordinated reservoir management strategies to address operations of Lake Powell and Lake Mead, particularly under low reservoir conditions. This action will provide a greater degree of certainty to all water users and managers in the Colorado River Basin by providing more detailed objective guidelines for the operation of Lake Powell and Lake Mead and by allowing water users in the Lower Basin to know when, and by how much, water deliveries will be reduced in drought and other low reservoir conditions. In addition, this action is designed to delay the onset and magnitude of shortages and maximize the protection afforded to water supply, hydropower production, recreation, and environmental benefits by water storage in Lakes Powell and Mead. As a result of analysis of comments and public input received to date, the Department anticipates that the elements of the proposed action will include:

(1) Adoption of guidelines that will identify those circumstances under which the Secretary would reduce the annual amount of water available for consumptive use from Lake Mead to the Lower Division states (Arizona, California, and Nevada) below 7.5 million acre-feet (maf) (a “Shortage”) pursuant to Article II(B)(3) of the Supreme Court Decree in Arizona v. California; ¹

¹ The Department intends to meet any consultation requirements identified in Article II(B)(3) of the Supreme Court Decree in Arizona v. California through the ongoing NEPA process initiated by the Federal Register Notice of September 30, 2005 (70 FR 57322-57323).

(2) adoption of guidelines for the coordinated operation of Lake Powell and Lake Mead that are designed to provide improved operation of the two reservoirs, particularly under low reservoir conditions;

(3) adoption of guidelines for the storage and delivery of water in Lake Mead to increase the flexibility to meet water use needs from Lake Mead, particularly under low reservoir conditions. These guidelines are anticipated to address the storage and delivery of non-system water, exchanges, and water conserved by extraordinary measures; and

(4) modification of the substance and term of the existing Interim Surplus Guidelines, published in the Federal Register on January 25, 2001 (66 FR 7772-7782), from 2016 to coincide with the proposed new guidelines described above.

The Secretary proposes that these guidelines will be interim in nature and will extend through 2025. Adoption of new guidelines along with modification of existing operational guidelines for a consistent interim period will provide the opportunity to gain valuable experience for operating the reservoirs under the modified operations and should improve the basis for making additional future operational decisions, whether during the interim period or thereafter.

It is the intent of the Department to adopt and implement the above proposed action in a manner that is consistent with applicable Federal law,² and further, in a manner that does not require any additional statutory authorization. In this regard, Reclamation proposes to implement the proposed action consistent with the Colorado River Compact of 1922, the Decree entered by the United States Supreme Court in the case of Arizona v. California, and other provisions of applicable Federal law. It is the intent of the Department that the proposed action will be consistent with and provide implementing guidance that would be used each year by the Department in implementing the Criteria for Coordinated Long-Range Operation of Colorado River Reservoirs Pursuant to the Colorado River Basin Project Act of September 30, 1968 (Long-Range Operating Criteria or LROC).

² The treaties, compacts, decrees, statutes, regulations, contracts, and other legal documents and agreements applicable to the allocation, appropriation, development, exportation, and management of the waters of the Colorado River Basin are often referred to as the “Law of the River.” There is no single, universally-agreed upon definition of the “Law of the River,” but it is useful as a shorthand reference to describe this longstanding and complex body of legal agreements governing the Colorado River.

Purpose and Need for the Proposed Federal Action

The purpose of the proposed action is to adopt additional operational strategies to improve the Department's annual management and operation of key Colorado River reservoirs while also providing mainstream users of Colorado River water, particularly those in the Lower Division states of Arizona, California, and Nevada, a greater degree of predictability with respect to the amount of annual water deliveries in future years, particularly under low reservoir conditions.

The need for the proposed action is based on a number of important considerations including the following reasons:

• The Colorado River flows through the driest portion of the continental United States and is the primary source of water to a region that has experienced continued population growth over recent decades.

• The Colorado River is of strategic importance in the southwestern United States for water supply, hydropower production, flood control, recreation, fish and wildlife habitat, and other benefits. In addition, the United States has a delivery obligation to the Republic of Mexico for certain waters of the Colorado River pursuant to the 1944 U.S.-Mexico Water Treaty.

• The Colorado River Basin experienced the worst five-year drought in recorded history in 2000 through 2004. This drought has impacted system storage, while demands for Colorado River water supplies have continued to increase. During the period from October 1, 1999, to October 1, 2004, storage in Lakes Powell and Mead fell from 47.6 maf (approximately 95% of capacity) to 23.1 maf (approximately 46% of capacity). This drought was also the worst sustained drought experienced in the Colorado River Basin at a time when all major storage facilities were in place, and when use by the Lower Division states met or exceeded the annual “normal” apportionment of 7.5 maf pursuant to Article II(B)(1) of the Decree. Moreover, entering the five year drought period with Lake Powell and Lake Mead reservoir storage capacity at 95% fortuitously provided for sufficient water supplies to meet basin demands. This may not be the case in the future. Among other factors, these conditions led the Department to conclude that additional management guidelines are necessary and desirable for the efficient, and coordinated, management of the major mainstem Colorado River reservoirs.

• In the future, low reservoir conditions will likely not be limited to drought periods because of anticipated future demands on Colorado River water supplies. Projected future increases in Colorado River water demands are expected to increase the frequency and magnitude that Colorado River reservoirs are drawn down to low reservoir conditions.

• As a result of actual operating experience and through reviews of the LROC and preparation of Annual Operating Plans, particularly during recent drought years, the Secretary has determined a need for more specific guidelines, consistent with the Decree and other applicable provisions of Federal law, to assist in the Secretary's determination of annual water supply conditions in the Lower Basin. The increased level of predictability is needed by the entities that receive Colorado River water to better plan for and manage available water supplies, and to allow such entities to better integrate the use of Colorado River water with other water supplies that they rely on. To date, storage of water and flows in the Colorado River Basin have been sufficient so that it has not been necessary to reduce Lake Mead annual releases below 7.5 maf; nor has the Department yet identified when water supplies would be reduced, by how much, or who would experience specified reductions.

• After public consultation meetings held in the summer of 2005, the Secretary has also determined the desirability of developing additional operational guidelines that will provide for releases greater than or less than 8.23 maf from Lake Powell.

• To further enhance this coordinated reservoir approach, the Secretary has also determined a need for guidelines that provide water users with the opportunity to conserve, store, and take delivery of water in and from Lake Mead for the purposes of enhancing existing water supplies, particularly under low reservoir conditions.

• Lastly, the Secretary has determined the need to modify and extend the Interim Surplus Guidelines to coincide with the duration of the proposed new guidelines. This will provide an integrated approach for reservoir management and more predictability for future Colorado River Basin water supplies.

Results of Scoping Input

The description of the Proposed Federal Action and the Purpose and Need for the Proposed Federal Action described in this Notice and in the Scoping Summary Report available at Reclamation's Web site noted above, was refined to reflect information and comments received during the scoping meetings and in written and oral scoping comments submitted to the Department.³ The Proposed Federal Action has been crafted to reflect, among others, three important considerations that were identified by commentors:

³ The Scoping Summary Report also addresses in Section 5.0 those issues raised during scoping that have been determined to be beyond the proposed scope of the EIS.

10

(1) Importance of Encouraging Conservation of Water: Many comments submitted to the Department focused on the importance of encouraging and utilizing water conservation as an important tool to better manage limited water supplies and therefore minimize the likelihood and severity of potential future shortages. See e.g., comment G-0003, “Conservation Before Shortage” proposal submitted to the Department on July 18, 2005, which is available in its entirety in Appendix W of the Scoping Summary Report. Water conservation can occur through a number of approaches that will be identified in the Draft EIS, including: Extraordinary conservation, forbearance, financial incentives to maximize conservation, dry-year options, and associated storage and recovery methodologies and procedures to address conservation actions by particular parties.

(2) Importance of Consideration of Reservoir Operations at all Operational Levels: Comments submitted to the Department urged the Department to consider and analyze management and operational guidelines for the full range of operational levels at Lake Powell and Lake Mead. See e.g., comment S-2006, “Basin States’ Preliminary Proposal Regarding Colorado River Interim Operations” submitted to the Department on February 3, 2006, which is available in its entirety in Appendix Q of the Scoping Summary Report. It was suggested that this approach is integral to the prudent development of new low-reservoir operational guidelines, as the approach and management of these reservoirs at higher elevations has a direct impact on available storage, thereby affecting the likelihood and severity of potential future shortages.

(3) Term of Operational Guidelines: Comments submitted to the Department urged the Department to consider interim, rather than permanent, additional operational guidelines. See e.g., comment letters L-2002 through 2006 submitted to the Department by several Arizona municipalities which are available in their entirety in Appendix W of the Scoping Summary Report. In this manner, the Department would have the ability to use actual operating experience for a period of years, thereby facilitating a better understanding of the operational effects of the new guidelines; modifications would then be made, if necessary, during or preferably at the end of the interim period. In particular, the Department was also urged to consider adopting additional operational guidelines for both low and higher reservoir elevations for a consistent period of years. At this time, it is important to note, the Department has detailed operational guidelines for declaration of surplus conditions at higher elevations of Lake Mead through 2016, but does not have similar detailed operational guidelines for either Lake Powell or the lower operational levels of Lake Mead.

Public Disclosure

Written comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations, business, and from individuals identifying themselves as representatives or officials of organizations or businesses, will be made available for public disclosure in their entirety.

Dated: March 18, 2006.
Robert W. Johnson,
Regional Director, Lower Colorado Region, Bureau of Reclamation.
Dated: March 16, 2006.
Rick L. Gold,
Regional Director, Upper Colorado Region, Bureau of Reclamation.

[FR Doc. E6-4713 Filed 3-30-06; 8:45 am]

BILLING CODE 4310-MN-P